DEPARTMENT OF ENERGY

Federal Energy Regulatory Commission

Combined Notice of Filings #1

Take notice that the Commission received the following electric rate filings:

Docket Numbers: ER10-1585-004; ER10-2960-002; ER10-1586-002; ER10-1594-004; ER10-1595-002; ER11-4051-003; ER10-1596-002; ER10-1597-003; ER10-1598-002; ER10-1616-002; ER10-1617-004; ER10-1618-002; ER10-1619-002; ER10-1620-003; ER10-1623-002; ER10-1624-003; ER10-1625-003; ER12-60-006; ER10-1632-006; ER10-1626-003; ER10-1628-004; ER11-1936-002; ER10-1630-002.

Applicants: Alabama Electric Marketing, LLC, Astoria Generating Company, L.P., Big Sandy Peaker Plant, LLC, California Electric Marketing, LLC, Crete Energy Venture, LLC, CSOLAR IV South, LLC, High Desert Power Project LLC, Kiowa Power Partners, LLC, New Covert Generating Company, LLC, Lincoln Generating Facility, LLC, New Mexico Electric Marketing, LLC, Rolling Hills Generating L.L.C., Tenaska Alabama Partners, L.P., Tenaska Alabama II Partners, L.P., Tenaska Frontier Partners, Ltd., Tenaska Gateway Partners, Ltd., Tenaska Georgia Partners, L.P., Tenaska Power Management, LLC, Tenaska Virginia Partners, L.P., Texas Electric Marketing, LLC, TPF Generation Holdings, LLC, Wolf Hills Energy, LLC, Tenaska Power Services Co.

Description: Notification of Change in Status of the Tenaska MBR Sellers.

Filed Date: 1/6/14.

Accession Number: 20140106-5169.

Comments Due: 5 p.m. ET 1/27/14.

Docket Numbers: ER13-1420-001.

Applicants: MP2 Energy NE LLC.

Description: Compliance Filing to be effective 7/3/2013.

Filed Date: 1/6/14.

Accession Number: 20140106-5063.

Comments Due: 5 p.m. ET 1/27/14.

Docket Numbers: ER13-1865-002.

Applicants: Tesoro Refining & Marketing Company LLC.

Description: Refund Report for Unauthorized Sales to be effective N/A.

Filed Date: 1/6/14.

Accession Number: 20140106-5152.

Comments Due: 5 p.m. ET 1/27/14.

Docket Numbers: ER13-1914-002.

Applicants: Southwest Power Pool, Inc.

Description: Creditable Upgrades Compliance Filing in Docket ER13-1914 to be effective 9/8/2013.

Filed Date: 1/6/14.

Accession Number: 20140106-5128.

Comments Due: 5 p.m. ET 1/27/14.

Docket Numbers: ER14-376-001.

Applicants: MATL LLP.

Description: Errata Filing to ER14-376 to be effective 11/12/2013.

Filed Date: 1/6/14.

Accession Number: 20140106-5151.

Comments Due: 5 p.m. ET 1/27/14.

Docket Numbers: ER14-955-000.

Applicants: Pocahontas Prairie Wind, LLC.

Description: First Revised MBR to be effective 1/7/2014.

Filed Date: 1/6/14.

Accession Number: 20140106-5061.

Comments Due: 5 p.m. ET 1/27/14.

Docket Numbers: ER14-956-000.

Applicants: PJM Interconnection, L.L.C.

Description: Original Service Agreement No. 3688; Queue No. Y2-117 to be effective 12/5/2013.

Filed Date: 1/6/14.

Accession Number: 20140106-5062.

Comments Due: 5 p.m. ET 1/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2014.
Nathaniel J. Davis, Sr.,
Deputy Secretary.

[FR Doc. 2014-00935 Filed 1-17-14; 8:45 am]

BILLING CODE 6717-01-P